DEPARTMENT OF EDUCATION

[Docket No. ED-2021-SCC-0020]

Agency Information Collection Activities; Comment Request; Randolph-Sheppard Financial Relief and Restoration Payments Appropriation

AGENCY: Office of Special Education and Rehabilitative Services (OSERS), Department of Education (ED).

ACTION: Notice.

SUMMARY: In accordance with the Paperwork Reduction Act of 1995, ED is requesting the Office of Management and Budget (OMB) to conduct an emergency review of a new information collection.

DATES: The Department has requested emergency processing from OMB for this information collection request by February 10, 2021; and therefore, the regular clearance process is hereby being initiated to provide the public with the opportunity to comment under the full comment period. Interested persons are invited to submit comments on or before April 19, 2021.

ADDRESSES: To access and review all the documents related to the information collection listed in this notice, please use http://www.regulations.gov by searching the Docket ID number ED-2021-SCC-0020. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Jesse Hartle, (202) 245-6415.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Randolph-Sheppard Financial Relief and Restoration Payments Appropriation.

OMB Control Number: 1820-NEW.

Type of Review: A new information collection.

Respondents/Affected Public: Federal Government.

Total Estimated Number of Annual Responses: 51.

Total Estimated Number of Annual Burden Hours: 51.

Abstract: This is an emergency clearance of a new information collection resulting from enactment of the Consolidated Appropriations Act of 2021, Division H, Title III, Section 318. This provision authorized the Secretary of Education to allot $20,000,000 for one-time financial relief and restoration grants consistent with the purposes of the Randolph-Sheppard Act as authorized under section 10 of such Act (20 U.S.C. 107f). Prior to this legislation, Congress has not appropriated such funds concerning the Randolph-Sheppard Vending Facility Program, as such the Department is seeking this data collection in order to meet its obligation to ensure that Federal funds are being used for their prescribed purposes.

Additional Information: An emergency clearance approval for the use of the system is described below due to the following conditions: If this emergency collection is not approved, ED will be unable to provide the timely awards to SLAs who, in turn, will not be able to provide the financial relief and restoration payments to blind vendors for their losses incurred in 2020 that was mandated by section 318 in a timely manner.

Dated: February 9, 2021.
Kate Mullan,
PRA Coordinator, Strategic Collections and Clearance, Governance and Strategy Division, Office of Chief Data Officer.

[FR Doc. 2021-02990 Filed 2-12-21; 8:45 am]

BILLING CODE 4000-01-P